FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Application Form for Membership on the Community Advisory Committee Council (FR 1401; OMB No. 7100-0371).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Application Form for Membership on the Community Advisory Committee Council.

Agency form number: FR 1401.

OMB control number: 7100-0371.

Frequency: Annually.

Respondents: Any person seeking to be considered for membership on the Community Advisory Committee (CAC) Council.

Estimated number of respondents: 300.

Estimated average hours per response: 1.

Estimated annual burden hours: 300.

General description of report: The CAC Application (Application) is used to obtain information about the experience and qualification of persons seeking to be considered for membership on the CAC of the Board. The Application collects an applicant's contact information; details regarding current employment and areas of expertise; a resume, which typically includes information about employment history, education, and training; and a cover letter explaining why the applicant is interested in serving on the CAC and what he or she believes are their primary qualifications. Applicants can voluntarily elect to provide additional information to support their application.

Legal authorization and confidentiality: The Application is authorized pursuant to sections 2A and 10 of the Federal Reserve Act (FRA).¹ Section 2A of the FRA requires the Board and Federal Open Market Committee to “maintain long run growth of the monetary and credit aggregates commensurate with the economy's long run potential to increase production, so as to promote effectively the goals of maximum employment, stable prices, and moderate long-term interest rates.” ² Section 10 of the FRA authorizes the Board to “determine and prescribe the manner in which its obligations shall be incurred and its disbursements and expenses allowed and paid.” ³ Providing information collected as part of the Application is required to obtain a benefit.

¹ 12 U.S.C. 225a and 244.

² 12 U.S.C. 225a.

³ 12 U.S.C. 244. This authority permits the Board to collect personal information (e.g., bank account routing numbers) needed to disburse travel funds to CAC members.

Generally, information provided on the Application may be kept confidential from the public under exemption 6 of the Freedom of Information Act (FOIA) to the extent that the disclosure of the information “would constitute a clearly unwarranted invasion of personal privacy.” For example, the release of information such as the applicant's address, home telephone number, or personal email address to the public would likely constitute a clearly unwarranted invasion of personal privacy and be kept confidential. However, the release of information such as the educational and professional qualifications of successful applicants would not likely constitute a clearly unwarranted invasion of personal privacy and may be disclosed under the FOIA. In addition, once a person becomes a member of the CAC, their name, and the name and location of the organization where they are employed, would generally be listed on the Board's public website.

Current actions: On October 5, 2021, the Board published a notice in the Federal Register (86 FR 54977) requesting public comment for 60 days on the extension, without revision, of the Application Form for Membership on the Community Advisory Committee Council. The comment period for this notice expired on December 6, 2021. The Board did not receive any comments.

Board of Governors of the Federal Reserve System, February 14, 2022.
Michele Taylor Fennell,
Deputy Associate Secretary of the Board.

[FR Doc. 2022-03471 Filed 2-16-22; 8:45 am]

BILLING CODE 6210-01-P